DEPARTMENT OF LABOR

Employment and Training Administration

[TA-W-56,667]

Industrial Distribution Group, Oldham Site, West Jefferson, NC; Notice of Termination of Investigation

Pursuant to section 221 of the Trade Act of 1974, as amended, an investigation was initiated on March 3, 2005 in response to a worker petition filed by a company official on behalf of workers at Industrial Distribution Group, Oldham Site, West Jefferson, North Carolina.

The petitioner has requested that the petition be withdrawn. Consequently, the investigation has been terminated.

Signed at Washington, DC, this 22nd day of March, 2005.
Linda G. Poole,
Certifying Officer, Division of Trade Adjustment Assistance.

[FR Doc. E5-1443 Filed 3-31-05; 8:45 am]

BILLING CODE 4510-30-P